DEPARTMENT OF HEALTH AND HUMAN SERVICES

National Institutes of Health

National Cancer Institute; Amended Notice of Meeting

Notice is hereby given of a change in the meeting of the National Cancer Institute Special Emphasis Panel, October 15, 2013, 4:00 p.m. to October 16, 2013, 5:00 p.m., Hilton Washington/Rockville, 1750 Rockville Pike, Rockville, MD, 20852 which was published in the Federal Register on September 11, 2013, 78 FR 55750.

Due to the absence of either an FY 2014 appropriation or Continuing Resolution for the Department of Health and Human Services, the meeting is rescheduled for December 10-11, 2013 from 2:00 p.m. to 5:00 p.m. and the meeting location has changed to Crystal City Marriott at Reagan National Airport, 1999 Jefferson Davis Highway, Arlington, VA 22202. The meeting is closed to the public.

Dated: October 30, 2013.
Melanie J. Gray,
Program Analyst, Office of Federal Advisory Committee Policy.

[FR Doc. 2013-26420 Filed 11-4-13; 8:45 am]

BILLING CODE 4140-01-P